DEPARTMENT OF AGRICULTURE

Agricultural Marketing Service

7 CFR 51

[Doc. No. AMS-SC-24-0068]

Revising U.S. Standards for Grades of Lemons

AGENCY: Agricultural Marketing Service, USDA.

ACTION: Notification and request for comments.

SUMMARY: The Agricultural Marketing Service (AMS) of the Department of Agriculture (USDA) proposes to revise the U.S. Standards for Grades of Lemons by adding the term “seedless lemons.” In addition, AMS proposes to incorporate marking requirements for lemons meeting the seedless definition.

DATES: Comments must be submitted on or before November 10, 2025.

ADDRESSES: Interested persons are invited to submit comments to the Standardization Branch, Specialty Crops Inspection Division, Specialty Crops Program, Agricultural Marketing Service, U.S. Department of Agriculture, National Training and Development Center; 100 Riverside Parkway, Suite 101; Fredericksburg, Virginia 22406; fax: (540) 361-1199, or via the internet at https://www.regulations.gov. Comments should reference the docket number and the date and page numbers of this issue of the Federal Register. All comments submitted in response to this notification will become a part of the public record and be made available to the public, including any personal information submitted with your comment, at https://www.regulations.gov.

FOR FURTHER INFORMATION CONTACT: Andrew Buss, at the address above, by phone (231) 260-5913; fax (540) 361-1199; or email at andrew.buss@usda.gov. Copies of the proposed U.S. Standards for Grades of Lemons are available at http://www.regulations.gov. Copies of the current U.S. Standards for Grades of Lemons are available at https://www.ams.usda.gov/grades-standards/fruits.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The United States Standards for Grades of Fruits and Vegetables that no longer appear in the Code of Federal Regulations but are maintained by USDA, AMS, Specialty Crops Program at the following website: http://www.ams.usda.gov. AMS is proposing revisions to the U.S. Standards for Grades of Lemons using the procedures that appear in part 36 of title 7 of the Code of Federal Regulations (7 CFR part 36).

Background

On March 25, 2024, California Citrus Mutual, a voluntary non-profit trade association for California's citrus growers, petitioned the USDA to revise the lemon standard to incorporate a seedless lemon definition and marking requirements. The petitioner represents 95 percent of the lemon producers nationwide. In its petition, California Citrus Mutual explained that advancements in the domestic lemon industry led to the development of seedless lemon varietals. AMS worked closely with California Citrus Mutual throughout the development of the proposed revisions, soliciting their comments and suggestions about the standards through discussion drafts and presentations. These proposed revisions seek to establish a definition for seedless lemons and marking requirements to maintain consistency in the industry.

AMS is proposing to revise the U.S. Standards for Grades of Lemons to add a definition for the term “seedless lemons” stating that “when marked `seedless,' a 100-count composite sample shall have not more than 6 fruit (or 6 percent) containing seeds (irrespective of number or development per fruit). Seeds would include fully developed and undeveloped seeds (or pips).” Written this way, any undeveloped seeds would be counted against that piece of fruit. The percentage of lemons with seeds is based on the number of fruit with seeds, rather than the number of seeds within a lemon. This new definition would not be applied to affect grade. In addition, marking requirements for lemons meeting this seedless definition would be incorporated into the standard and would also not affect grade. The marking requirements would require that “when lots are marked `seedless,' the term `seedless' shall be legibly marked on at least 95 percent of the containers, including consumer units.” These proposed marking requirements seek to provide buyers and consumers with clear information on the product being bought and sold between parties. Without marking requirements, it would be difficult to differentiate a lot of seedless lemons from a lot of lemons with seeds to know when the proposed definition would apply.

The proposed revisions to these grade standards would provide a common language for trade, better reflect the current marketing of fruits and vegetables, and provide uniformity on the buying and selling of seedless lemons.

A 60-day period is provided for interested persons to submit comments on the proposed grade standards. Copies of the proposed revised standards are available on the internet at http://www.regulations.gov. After the 60-day comment period, AMS would proceed in accordance with 7 CFR 36.3(a)(1-3).

Authority: 7 U.S.C. 1621-1627.

Erin Morris,
Administrator, Agricultural Marketing Service.

[FR Doc. 2025-17481 Filed 9-10-25; 8:45 am]

BILLING CODE 3410-02-P